DEPARTMENT OF ENERGY

Federal Energy Regulatory Commission

[Project No. 1864-003]

Upper Peninsula Power Company; Notice of Availability of Environmental Assessment

April 15, 2010.

In accordance with the National Environmental Policy Act of 1969 and the Federal Energy Regulatory Commission's regulations, 18 CFR part 380, Commission staff have prepared an environmental assessment (EA) regarding Upper Peninsula Power Company's plan to replace the spillway at the Bond Falls Development of the Bond Falls Hydroelectric Project (FERC No. 1864). The project is located on the Ontonagon River in Ontonagon and Gogebic Counties, Michigan, and Vilas County, Wisconsin, partially on lands within the Ottawa National Forest. The Bond Falls Development is located on the Middle Branch of the Ontonagon River in Ontonagon County, Michigan, and occupies 73.5 acres of land within the Ottawa National Forest.

The EA contains the Commission staff's analysis of the potential environmental effects of the planned replacement of the Bond Falls spillway and concludes that the spillway replacement, with appropriate environmental protective measures, would not constitute a major federal action that would significantly affect the quality of the human environment.

Copies of the EA are available for review in the Public Reference Room 2-A of the Commission's offices at 888 First Street, NE., Washington, DC 20426. The EA may also be viewed on the Commission's Internet Web site (http://www.ferc.gov) using the “eLibrary” link. Enter the docket number in the docket number field to access the document. Additional information about the project is available from the Commission's Office of External Affairs, at (202) 502-6088, or on the Commission's Web site using the eLibrary link. For assistance with eLibrary, contact FERCOnlineSupport@ferc.gov or toll-free at (866) 208-3372; for TTY contact (202) 502-8659.

Kimberly D. Bose,
Secretary.

[FR Doc. 2010-9260 Filed 4-21-10; 8:45 am]

BILLING CODE 6717-01-P